DEPARTMENT OF HEALTH AND HUMAN SERVICES

Centers for Disease Control and Prevention

Disease, Disability, and Injury Prevention and Control Special Emphasis Panel (SEP): “Annual Estimates of Influenza Vaccine Effectiveness for Preventing Laboratory Confirmed Medically Attended Outcomes”, Funding Opportunity Announcement (FOA) IP08-001 and “Influenza Vaccine Efficacy in Tropical and Developing Countries”, FOA IP08-002

In accordance with section 10(a)(2) of the Federal Advisory Committee Act (Pub. L. 92-463), the Centers for Disease Control and Prevention (CDC) announces the aforementioned meeting.

Time and Date: 9 a.m.-5 p.m., April 30, 2008 (Closed).

Place: Centers for Disease Control and Prevention, Atlanta, GA.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of “Annual Estimates of Influenza Vaccine Effectiveness for Preventing Laboratory Confirmed Medically Attended Outcomes”, Funding Opportunity Announcement (FOA) IP08-001 and “Influenza Vaccine Efficacy in Tropical and Developing Countries”, FOA IP08-002.”

For Further Information Contact: Christine J. Morrison, Ph.D., Scientific Review Administrator, CDC, 1600 Clifton Road, NE., Mailstop D72, Atlanta, GA 30333, Telephone: (404) 639-3098.

The Director, Management Analysis and Services Office, has been delegated the authority to sign Federal Register notices pertaining to announcements of meetings and other committee management activities, for both CDC and the Agency for Toxic Substances and Disease Registry.

Dated: February 29, 2008.
Elaine L. Baker,
Director, Management Analysis and Services Office, Centers for Disease Control and Prevention.

[FR Doc. E8-4754 Filed 3-7-08; 8:45 am]

BILLING CODE 4163-18-P